DEPARTMMENT OF AGRICULTURE

Forest Service

Hood/Willamette Resource Advisory Committee (RAC)

AGENCY: Forest Service, USDA

ACTION: Notice.

SUMMARY: The Hood/Willamette Resource Advisory Committee (RAC) will meet on Wednesday, May 26, 2003. The meeting is scheduled to begin at 1 p.m. and will conclude at approximately 4 p.m. The meeting will be held at Salem Office of the Bureau of Land Management Office; 1717 Febry Road SE; Salem, Oregon; (503) 375-5646. The tentative agenda includes: (1) Report on National Conference and Workshop; (2) Election of chairperson; (3) Decision on overhead rate for 2005 projects; (4) Presentation of 2005 Projects; and (5) Public Forum.

The Public Form is tentatively scheduled to begin at 2 p.m. Time allotted for individual presentations will be limited to 3-4 minutes. Written comments are encouraged, particularly if the material cannot be presented within the time limits for the Public Forum. Written comments may be submitted prior to the May 26th meeting by sending them to Designated Federal Donna Short at the address given below.

FOR FURTHER INFORMATION CONTACT: For more information regarding this meeting, contact Designated Federal Official Donna Short; Sweet Home Ranger District; 3225 Highway 20; Sweet Home, Oregon 97386; (541) 367-9220.

Dated: May 5, 2004.
Dallas J. Emch,
Forest Supervisor.

[FR Doc. 04-10616 Filed 5-10-04; 8:45 am]

BILLING CODE 3410-11-M